DEPARTMENT OF COMMERCE

National Oceanic and Atmospheric Administration

RIN 0648-XF130

Endangered and Threatened Species; Take of Anadromous Fish

AGENCY: National Marine Fisheries Service (NMFS), National Oceanic and Atmospheric Administration (NOAA), Commerce.

ACTION: Application for one enhancement permit renewal.

SUMMARY: Notice is hereby given that NMFS has received, from the United States Bureau of Reclamation (Reclamation), a permit application (16608-2R) to enhance the propagation and survival of species listed under the Endangered Species Act (ESA) of 1973, as amended. Under permit application 16608-2R, Reclamation is requesting renewal of permit 16608, for a five year period, to continue implementation of the San Joaquin River Restoration Program (SJRRP) Steelhead Monitoring Program. The permit application may be viewed online at: https://apps.nmfs.noaa.gov/preview/preview_open_for_comment.cfm.

DATES: Comments or requests for a public hearing on the applications must be received at the appropriate address or fax number (see ADDRESSES) no later than 5 p.m. Pacific standard time on February 10, 2017.

ADDRESSES: Written comments on the application should be submitted to the California Central Valley Office, NMFS, 650 Capitol Mall, Suite 5-100, Sacramento, CA 95814. Comments may also be submitted via fax to 916-930-3629 or by email to Jeff.Abrams@noaa.gov (include the permit number in the subject line of the fax or email).

FOR FURTHER INFORMATION CONTACT: Jeff Abrams, Sacramento, CA (ph.: 916-930-3714, Fax: 916-930-3629, email: Jeff.Abrams@noaa.gov). Permit application instructions are available from the address above, or online at https://apps.nmfs.noaa.gov.

SUPPLEMENTARY INFORMATION:

Species Covered in This Notice

The following listed species are covered in this notice:

Chinook salmon (Oncorhynchus tshawytscha): Threatened Central Valley (CV) spring-run;

Steelhead (O. mykiss): Threatened California Central Valley (CCV).

Authority

Enhancement permits are issued in accordance with Section 10(a)(1)(A) of the ESA (16 U.S.C. 1531 et. seq) and regulations governing listed fish and wildlife permits (50 CFR parts 222-227). NMFS issues permits based on findings that such permits: (1) Are applied for in good faith; (2) if granted and exercised, would not operate to the disadvantage of the listed species that are the subject of the permit; and (3) are consistent with the purposes and policy of Section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Permit Application(s) Received

Permit 16608-2R

Reclamation has applied for an enhancement permit under Section 10(a)(1)(A) of the ESA for a period of 5 years that would allow take of adult CCV steelhead, and adult CV spring-run Chinook salmon. Actions taken pursuant to the application are designed to monitor for the presence of CCV steelhead that may be attracted into the SJRRP Restoration Area (Restoration Area), and to relocate those captured fish to locations with better access to suitable spawning habitat. Prior to the completion of ongoing SJRRP efforts to improve fish passage, fish that are attracted into the Restoration Area will not have access to spawning habitat upstream. The proposed activities are intended to benefit listed species by relocating captured steelhead back to areas where they have access to spawning habitat in the Merced River or other San Joaquin River tributaries. The proposed monitoring would further benefit steelhead by providing data on the distribution of steelhead and their use of the Restoration Area in order to inform future ESA consultations and SJRRP management actions. While adult CV spring-run Chinook salmon are not the target species for these efforts, some may be captured during permitted activities. The post capture handling of CV spring-run Chinook salmon is covered under ESA Section 10(a)(1)(A) permit 17781.

Listed fish would be captured by: Boat mounted electrofisher, fyke net, and trammel net. Handling would include conducting length measurements, gender identification, tissue and scale collection, checking for the presence of tags, and tagging by Passive Integrated Transponder (PIT). Captured steelhead would be transported by tank truck and released in the San Joaquin River downstream of the mouth of the Merced River. Observe/harass take may occur at occur at temporary weirs with electronic fish counting devices installed. Recaptured steelhead would be identified by the presence of a PIT tag. All persons implementing proposed activities would follow appropriate protocols to minimize injury to captured fish, including: Handling live steelhead with extreme care, monitoring water temperature to the maximum extent possible during sampling and processing procedures, maintaining adequate circulation and replenishment of water in holding units, following the NMFS 2000 electrofishing guidelines, and checking all traps at least daily. In addition, when a sample is comprised of a mix of species, any captured steelhead would be processed first, and steelhead rescued at the capture site would be allowed to recover to the maximum extent possible prior to being released into the mainstem San Joaquin River. The applicants are not proposing to kill any of the fish they capture, but a small number may die as an unintended result of the activities.

Public Comments Solicited

NMFS invites the public to comment on the permit application and associated HGMPs during a 30 day public comment period beginning on the date of this notice. This notice is provided pursuant to Section 10(c) of the ESA (16 U.S.C. 1529(c)). All comments and materials received, including names and addresses, will become part of the administrative record and may be released to the public. We provide this notice in order to allow the public, agencies, or other organizations to review and comment on these documents.

Next Steps

NMFS will evaluate the applications, associated documents, and comments submitted to determine whether the applications meet the requirements of Section 10(a)(1)(A) of the ESA and Federal regulations. The final permit decisions will not be made until after the end of the 30-day public comment period and after NMFS has fully considered all relevant comments received. NMFS will publish notice of its final action in the Federal Register.

Dated: January 4, 2017.
Angela Somma,
Chief, Endangered Species Division, Office of Protected Resources, National Marine Fisheries Service.

[FR Doc. 2017-00300 Filed 1-10-17; 8:45 am]

BILLING CODE 3510-22-P